DEPARTMENT OF AGRICULTURE

Agricultural Marketing Service

[Docket Number FV-04-309]

United States Standards for Grades of Persian (Tahiti) Limes

AGENCY: Agricultural Marketing Service, USDA.

ACTION: Notice.

SUMMARY: The Agricultural Marketing Service (AMS) of the Department of Agriculture (USDA) is revising the voluntary United States Standards for Grades of Persian (Tahiti) Limes. Specifically, the juice content requirement shall be revised to allow juice content to be determined by weight. Additionally, the redesignation of limes to “Mixed Color” and “Turning” within the color requirements will be made optional. The standards provide industry with a common language and uniform basis for trading, thus promoting the orderly and efficient marketing of Persian limes.

DATES: Effective Date: May 31, 2006.

FOR FURTHER INFORMATION CONTACT: Cheri L. Emery, Standardization Section, Fresh Products Branch, Fruit and Vegetable Programs, Agricultural Marketing Service, U.S. Department of Agriculture, 1400 Independence Ave., SW., Room 1661, South Building, Stop 0240, Washington, DC 20250-0240, (202) 720-2185, fax (202) 720-8871, or E-mail Cheri.Emery@usda.gov. The United States Standards for Grades of Persian (Tahiti) Limes is available either from the above address or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is revising the voluntary United States Standards for Grades of Persian (Tahiti) Limes using the procedures that appear in part 36, Title 7 of the Code of Federal Regulations (7 CFR part 36).

Background

Prior to undertaking research and other work associated with a proposed revision of the standards, AMS published a notice on June 25, 2004, in the Federal Register (69 FR 35572) requesting comments on the possible revision of the United States Standards for Grades of Persian (Tahiti) Limes. Based on the comments received, AMS published a notice in the Federal Register (70 FR 12174) on March 11, 2005, proposing to revise the juice and color requirements. AMS published a subsequent notice in Federal Register (70 FR 36111), on June 22, 2005, extending the period for comments.

In response to the requests for comments, AMS received sixteen responses to the proposed revisions. Thirteen of the responses were from a produce association, with twelve separate comments from association members supporting the association response. One comment was from a national trade association representing produce receivers, one from a foreign trade organization and one from a foreign government agency. The comments are available by accessing the AMS, Fresh Products Branch Web site at: http://www.ams.usda.gov/fv/fpbdocketlist.htm.

AMS proposed removing the juice requirement. Juice content is based on volume and is complex to determine. The comment from the produce association's President, supported by the twelve separate association members, was in favor of the removal. Another comment stated they believe that the requirement was difficult to apply, however, if the requirement remains in the standard they suggested the minimum juice content be reduced to 30 percent from the current requirement of 42 percent. AMS does not support the commenter's proposed reduction, as the 42 percent juice content would be considered by most of the industry to have an acceptable amount of juice. Another commenter suggested that the juice content be determined by weight rather than volume. Given the comments received, AMS has decided to retain the juice requirement in the standards at the current requirement of 42 percent and the volume method. AMS believes that the comment suggesting that the juice content be determined by weight has merit. This method is less complex than the volume method. Further, this method is currently used within the industry. Accordingly, an option to determine the juice content by weight will be added to the standard.

AMS proposed removing the color requirements. The color requirements specify that limes have a percentage of the surface with good green color. The U.S. No. 1 grade, requires three-fourths of the surface to be good green color and the U.S. No. 2 grade requires one-half of the surface good green color. The standard further states, limes not meeting the requirements of the grade due to blanching shall be redesignated as “Mixed Color” and limes that do not meet the requirements of the grade due to turning yellow or yellow color, caused by the ripening process shall be designated as “Turning.” One commenter supported eliminating the redesignation of lots as “Mixed Color” and “Turning” for the U.S. No. 1 grade only. Another commenter supported the elimination of the “Turning” designation for all grades. The comment from the produce association's President, supported by the twelve separate association members, supported leaving the redesignation of lots to “Turning” for advanced yellowing. This commenter further suggested designating lots of limes with blanching and “incipient” yellowing as “Mixed Color.” Additionally, this commenter also suggested creating a new grade, U.S. Fancy, which would require limes to be predominately good green. The commenter also recommended revising the U.S. No. 1 grade to allow the fruit to have 50 percent of the surface to show “lightened color” as a result of blanching and an additional 10 percent of the surface to show “lightened color” as a result of yellowing. Since these suggested changes significantly deviate from the two proposed changes, and they will not be addressed in this revision. Based on the comments received, AMS believes a revision to the color requirement, rather than removal, would better meet the needs of the industry, because this requirement still reflects industry practice. Therefore, the requirement regarding limes having a percentage of the surface with good green color will remain unchanged. However, in view of the comments received, the required redesignation to “Mixed Color” and “Turning” is revised to an optional redesignation in order to provide the industry with flexibility regarding these designations. Otherwise, limes that do not make grade based on color will be designated as a “fails to grade.”

Two comments were received regarding size. Additionally, two comments were received suggesting the elimination of the U.S. Combination grade. These matters are beyond the scope of the proposed revision. Therefore, these changes are not addressed in this action.

Based on the comments received and information gathered, AMS believes the revision to the standards will improve their usefulness in serving the industry. The official grade of a lot of Persian (Tahiti) Limes covered by these standards will be determined by the procedures set forth in the Regulations Governing Inspection, Certification, and Standards of Fresh Fruits, Vegetables and Other Products (Sec. 51.1 to 51.61).

The United States Standards for Grades of Persian (Tahiti) Limes will be effective 30 days after publication of this notice in the Federal Register.

Authority: 7 U.S.C. 1621-1627.

Dated: April 26, 2006.
Lloyd C. Day,
Administrator, Agricultural Marketing Service.

[FR Doc. E6-6482 Filed 4-28-06; 8:45 am]

BILLING CODE 3410-02-P